DEPARTMENT OF ENERGY

Secretary of Energy Advisory Board

AGENCY: Department of Energy.

ACTION: Notice of cancellation of open virtual meeting.

SUMMARY: On December 20, 2023, the Department of Energy published a notice of open meeting announcing a virtual meeting on January 16, 2024, of the Secretary of Energy Advisory Board (SEAB). This notice announces the cancellation of this virtual meeting.

DATES: The virtual meeting scheduled for January 16, 2024, announced in the December 20, 2023, issue of the Federal Register (FR Doc. 2023-27904, 88 FR 88057), is cancelled.

FOR FURTHER INFORMATION CONTACT: David Borak, Designated Federal Officer, U.S. Department of Energy, 1000 Independence Avenue SW, Washington, DC 20585; email: seab@hq.doe.gov; telephone: (202) 586-5216.

Signing Authority

This document of the Department of Energy was signed on December 27, 2023, by David Borak, Deputy Committee Management Officer, Secretarial Office of Boards & Councils, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 28, 2023.
Treena V. Garrett,
Federal Register Liaison Officer, U.S. Department of Energy.

[FR Doc. 2023-28934 Filed 1-2-24; 8:45 am]

BILLING CODE 6450-01-P